DEPARTMENT OF STATE

[Public Notice 5601]

Notice of Effective Date for Implementation of Five-Year Professor and Research Scholar Exchange Program

AGENCY: Department of State.

ACTION: Notice.

SUMMARY: By final rule adopted May 19, 2005, 70 FR 28815, the Department of State amended its regulations and extended the permitted program duration from three to five years for professor and researcher participants in the Exchange Visitor Program. This rule also established clear eligibility requirements for repeat participation as a professor or researcher in the Exchange Visitor Program following a two-year bar. Implementation of these changes was delayed until the Department of Homeland Security could complete modifications to the Student and Exchange Visitor Information System (SEVIS) necessary to permit these changes to be reflected in SEVIS. By SEVIS broadcast on October 6th, 2006, The Department of Homeland Security announced its ability to facilitate these changes effective November 4, 2006.

Accordingly, as of November 4, 2006, current and future professor and researcher program participants will be eligible for five years of program participation as provided for in the final rule. These participants will also be subject to the eligibility requirements for repeat participation set forth in the final rule. Requirements governing initial eligibility for participation as a professor or researcher are unchanged.

The final rule published May 19, 2005 also established a new “G-7” administrative classification for certain program sponsors. The Department will contact directly those sponsors eligible for the classification. No action, inquiry, or request regarding this classification is necessary on the part of existing sponsors. This certification will be published in the Federal Register.

Dated: October 25, 2006.
Stanley S. Colvin,
Director, Office of Exchange Coordination and Designation, Department of State.

[FR Doc. E6-18409 Filed 10-31-06; 8:45 am]

BILLING CODE 4710-05-P